DEPARTMENT OF TRANSPORTATION

National Highway Traffic Safety Administration

[Docket No. NHTSA-2022-0113; Notice 1]

Mack Trucks, Inc., Receipt of Petition for Decision of Inconsequential Noncompliance

AGENCY: National Highway Traffic Safety Administration (NHTSA), Department of Transportation (DOT).

ACTION: Receipt of petition.

SUMMARY: Mack Trucks, Inc., (Mack Trucks), has determined that certain model year (MY) 2015-2023 Mack GU/GR Class 8 trucks and truck-tractors do not fully comply with Federal Motor Vehicle Safety Standard (FMVSS) No. 108, Lamps, Reflective Devices, and Associated Equipment. Mack Trucks filed an original noncompliance report dated November 1, 2022, and amended the report on November 3, 2022. Mack Trucks petitioned NHTSA on November 23, 2022, for a decision that the subject noncompliance is inconsequential as it relates to motor vehicle safety. This document announces receipt of Mack Trucks' petition.

DATES: Send comments on or before February 16, 2023.

ADDRESSES: Interested persons are invited to submit written data, views, and arguments on this petition. Comments must refer to the docket and notice number cited in the title of this notice and may be submitted by any of the following methods:

• Mail: Send comments by mail addressed to the U.S. Department of Transportation, Docket Operations, M-30, West Building Ground Floor, Room W12-140, 1200 New Jersey Avenue SE, Washington, DC 20590.

• Hand Delivery: Deliver comments by hand to the U.S. Department of Transportation, Docket Operations, M-30, West Building Ground Floor, Room W12-140, 1200 New Jersey Avenue SE, Washington, DC 20590. The Docket Section is open on weekdays from 10 a.m. to 5 p.m. except for Federal holidays.

• Electronically: Submit comments electronically by logging onto the Federal Docket Management System (FDMS) website at https://www.regulations.gov/. Follow the online instructions for submitting comments.

• Comments may also be faxed to (202) 493-2251.

Comments must be written in the English language, and be no greater than 15 pages in length, although there is no limit to the length of necessary attachments to the comments. If comments are submitted in hard copy form, please ensure that two copies are provided. If you wish to receive confirmation that comments you have submitted by mail were received, please enclose a stamped, self-addressed postcard with the comments. Note that all comments received will be posted without change to https://www.regulations.gov, including any personal information provided.

All comments and supporting materials received before the close of business on the closing date indicated above will be filed in the docket and will be considered. All comments and supporting materials received after the closing date will also be filed and will be considered to the fullest extent possible.

When the petition is granted or denied, notice of the decision will also be published in the Federal Register pursuant to the authority indicated at the end of this notice.

All comments, background documentation, and supporting materials submitted to the docket may be viewed by anyone at the address and times given above. The documents may also be viewed on the internet at https://www.regulations.gov by following the online instructions for accessing the dockets. The docket ID number for this petition is shown in the heading of this notice.

DOT's complete Privacy Act Statement is available for review in a Federal Register notice published on April 11, 2000 (65 FR 19477-78).

FOR FURTHER INFORMATION CONTACT: Leroy Angeles, Safety Compliance Engineer, Office of Vehicle Safety Compliance, NHTSA, (202) 366-5304.

SUPPLEMENTARY INFORMATION:

I. Overview: Mack Trucks determined that certain MY 2015-2023 Mack GU/GR Class 8 trucks and truck-tractors do not fully comply with paragraph S6.4.3(a) and Table V-b of FMVSS No. 108, Lamps, Reflective Devices, and Associated Equipment (49 CFR 571.108).

Mack Trucks filed an original noncompliance report dated November 1, 2022, and amended the report on November 3, 2022, pursuant to 49 CFR part 573, Defect and Noncompliance Responsibility and Reports. Mack Trucks petitioned NHTSA on November 23, 2022, for an exemption from the notification and remedy requirements of 49 U.S.C. chapter 301 on the basis that this noncompliance is inconsequential as it relates to motor vehicle safety, pursuant to 49 U.S.C. 30118(d) and 30120(h) and 49 CFR part 556, Exemption for Inconsequential Defect or Noncompliance.

This notice of receipt of Mack Trucks' petition is published under 49 U.S.C. 30118 and 30120 and does not represent any agency decision or another exercise of judgment concerning the merits of the petition.

II. Vehicles Involved: Approximately 27,544 MY 2015-2023 Mack GU/GR Class 8 trucks and truck-tractors, manufactured between September 1, 2014, and September 30, 2022, are potentially involved:

III. Noncompliance: Mack Trucks explains that the subject vehicles are equipped with turn signal lamps that do not meet the visibility requirement specified by S6.4.3(a) and Table V-b of FMVSS No. 108. Specifically, in the direction of the corner point 15 degrees downward and 45 degrees inboard angle, the turn signal lamps provide less than the required 1,250 sq mm of unobstructed effective projected luminous lens area.

IV. Rule Requirements: Paragraph S6.4.3 of FMVSS No. 108 includes the requirements relevant to this petition. A manufacturer is required to certify compliance of each lamp function to one of two visibility requirement options: the lens area option or the luminous intensity option. The manufacturer may not thereafter choose a different option for that vehicle.

V. Summary of Mack Trucks' Petition: The following views and arguments presented in this section, “V. Summary of Mack Trucks' Petition,” are the views and arguments provided by Mack Trucks. They have not been evaluated by the Agency and do not reflect the views of the Agency. Mack Trucks describes the subject noncompliance and contends that the noncompliance is inconsequential as it relates to motor vehicle safety.

Mack Trucks explains that after FMVSS No. 108 was updated in 2014, certain vehicle configurations were not updated accordingly which resulted in the subject vehicles being noncompliant with the taillamp signal visibility requirements provided in S6.4.3. Mack Trucks states that due to an unrelated engineering change, the subject noncompliance was identified. Mack Trucks found the GU and GR Axle Back models of the subject vehicles only provided at least 1,250 sq mm of unobstructed view until the 15 degrees downward and 37 degrees inboard angle instead of the required 15 degrees downward and 45 degrees inboard angle. For the GU and GR Axle Forward and Axle Forward Extended Frame Rails models of the subject vehicles, Mack Trucks found that the required visibility area was only provided until the 7 degrees downward and 45 degrees inboard angle instead of the 15 degrees downward and 45 degrees inboard angle that is required by S6.4.3(a) and Table V-b of FMVSS No. 108.

Mack Trucks provides illustrations of the subject vehicles in its petition to show how the noncompliance occurs on the affected vehicle configurations.

Mack Trucks concludes by stating its belief that the subject noncompliance is inconsequential to motor vehicle safety and its petition for relief from providing notice and remedy for the noncompliance be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject vehicles that Mack Trucks no longer controlled at the time it determined that the noncompliance existed. However, any decision on this petition does not relieve vehicle distributors and dealers of the prohibitions on the sale, offer for sale, or introduction or delivery for introduction into interstate commerce of the noncompliant vehicles under their control after Mack Trucks notified them that the subject noncompliance existed.

(Authority: 49 U.S.C. 30118, 30120: delegations of authority at 49 CFR 1.95 and 501.8.)

Otto G. Matheke III,
Director, Office of Vehicle Safety Compliance.

[FR Doc. 2023-00683 Filed 1-13-23; 8:45 am]

BILLING CODE 4910-59-P